DEPARTMENT OF COMMERCE

National Oceanic and Atmospheric Administration

[I.D. 061900A]

Foreign Fishing Vessels Operating in Internal Waters

AGENCY: National Marine Fisheries Service (NMFS), National Oceanic and Atmospheric Administration (NOAA), Commerce.

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 21, 2000.

ADDRESSES: Direct all written comments to Linda Engelmeier, Departmental Forms Clearance Officer, Department of Commerce, Room 6066, 14th and Constitution Avenue NW, Washington DC 20230 (or via Internet at lengelme@doc.gov).

FOR FURTHER INFORMATION CONTACT: Requests for additional information or copies of the information collection instrument(s) and instructions should be directed to Bob Dickinson, Office of Sustainable Fisheries, International Fisheries Division, 1315 East West Highway, Silver Spring, Maryland 20910, (301-713-2337).

SUPPLEMENTARY INFORMATION:

I. Abstract

Section 306(c) of the Magnuson-Stevens Fishery Conservation and Management Act (16 U.S.C. 1801 et seq.), as amended by section 112(c) of the Sustainable Fisheries Act (Public Law 104-297), requires that foreign fishing vessels operating in internal U.S. waters report the tonnage and location of fish received from vessels of the United States. NOAA uses the information collected to properly allocate the reported receipts of fish to the area(s) from which the fish were caught, and to ensure that all transfers of fish from U.S. vessels to foreign vessels are accounted for in monitoring quotas and for resource assessment and statistical reporting purposes.

II. Method of Collection

Reports may be submitted by fax or by electronic or regular mail.

III. Data

OMB Number: 0648-0329.

Form Number: None.

Type of Review: Regular submission.

Affected Public: Business and other for-profit organizations.

Estimated Number of Respondents: 6.

Estimated Time Per Response: 30 minutes.

Estimated Total Annual Burden Hours: 36.

Estimated Total Annual Cost to Public: $420.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 15, 2000.
Madeleine Clayton,
Management Analyst, Office of the Chief Information Officer.

[FR Doc. 00-15853 Filed 6-21-00; 8:45 am]

BILLING CODE 3510-22-F